DEPARTMENT OF COMMERCE

International Trade Administration

[A-570-831]

Fresh Garlic From the People's Republic of China: Extension of Time Limit for the Final Results of New Shipper Reviews

AGENCY: Import Administration, International Trade Administration, Department of Commerce.

DATES: Effective Date: July 28, 2011.

FOR FURTHER INFORMATION CONTACT: Jacqueline Arrowsmith, Milton Koch, and Justin Neuman, AD/CVD Operations, Office 6, Import Administration, International Trade Administration, U.S. Department of Commerce, 14th Street and Constitution Avenue, NW., Washington, DC 20230; telephone: (202) 482-5255, (202) 482-2584, and (202) 482-0486, respectively.

Background

On May 3, 2011, the Department of Commerce (the Department) issued the preliminary intent to rescind the new shipper reviews of fresh garlic from the People's Republic of China for Jining Yifa Garlic Produce Co., Ltd. and Shenzhen Bainong Co., Ltd. for the period of review (POR) November 1, 2009, through April 30, 2010, and Yantai Jinyan Trading Inc. for the POR November 1, 2009, through May 31, 2010.

See Fresh Garlic From the People's Republic of China: Preliminary Intent To Rescind New Shipper Reviews, 76 FR 24857 (May 3, 2011) (Preliminary Intent to Rescind).

Statutory Time Limits

Section 751(a)(2)(B)(iv) of the Tariff Act of 1930, as amended (the Act), and 19 CFR 351.214(i)(1), provide that the Department will issue the preliminary results of a new shipper review of an antidumping duty order within 180 days after the day on which the review was initiated, and the final results of review within 90 days after the date on which the preliminary results were issued. However, if the Department concludes that a new shipper review is extraordinarily complicated, the Department may extend the 180-day period to 300 days, and may extend the 90-day period to 150 days. See 19 CFR 351.214(i)(2).

Extension of Time Limit for Final Results

The Department determines that these new shipper reviews involve extraordinarily complicated issues. In particular, since the Preliminary Intent to Rescind, the Department has solicited and received additional information regarding the bona fides of the new shippers' sales. The Department needs additional time to analyze this new information and to consider the parties' arguments with regard to the bona fides of the sales under review. Therefore, in accordance with section 751(a)(2)(B)(iv) of the Act and 19 CFR 351.214(i)(2), the Department is extending the time limit for the final results from 90 days to 111 days. Thus, the final results will now be due no later than August 15, 2011.

We are issuing and publishing this notice in accordance with sections 751(a)(2)(B)(iv) and 777(i)(I) of the Act.

Dated: July 22, 2011.
Christian Marsh,
Deputy Assistant Secretary for Antidumping and Countervailing Duty Operations.

[FR Doc. 2011-19134 Filed 7-27-11; 8:45 am]

BILLING CODE 3510-DS-P